DEPARTMENT OF JUSTICE

Notice of Lodging of Consent Decree Under the Park System Resource Protection Act

Notice is hereby given that on April 7, 2008, a proposed Consent Decree (“Decree” ) in United States v. Kristin R. Blake, Civil Action No. 07-5001 MMM (FMOx), was lodged with the United States District Court for the Central District of California, Western Division.

In this action the United States sought to recover response costs and damages pursuant to the Park System Resource Protection Act (“PSRPA), 16 U.S.C. 19jj to 19jj-4, and treble damages pursuant to California trespass law for injury to and destruction of vegetation resulting from the defendant's alleged cutting of a horse trail on a parcel owned by the United States and located within the Santa Monica Mountains National Recreation Area. The Decree would settle these claims in return for a payment of $56,500, to be deposited in the Department of the Interior's Natural Resource Damage Assessment and Restoration Fund, and applied toward response and damage assessment costs incurred as a result of the defendant's alleged incursion onto property of the United States and/or natural resource restoration projects related to this incident.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should reference United States v. Kristin R. Blake., Civil Action No. 07-5001 MMM (FMOx), D.J. Ref. No. 90-5-1-1-08909.

The Decree may be examined at the Office of the United States Attorney, 300 North Los Angeles Street, room 7516, Los Angeles, CA 90012. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.75 (25 cents per page reproduction cost) payable to the U.S. Treasury or, if by email or fax, forward a check in that amount to the Consent Decree Library at the stated address.

Henry Friedman,
Assistant Chief, Environmental Enforcement Section, Environment and Natural Resources Division.

[FR Doc. E8-7779 Filed 4-11-08; 8:45 am]

BILLING CODE 4410-15-P